DEPARTMENT OF LABOR

Employment and Training Administration

[TA-W-50,633]

Barry of Goldsboro, Goldsboro, NC; Notice of Revised Determination on Reconsideration

By letter dated March 25, 2003, the company requested administrative reconsideration regarding the Department's Negative Determination Regarding Eligibility to Apply for Worker Adjustment Assistance, applicable to the workers of the subject firm.

The initial investigation resulted in a negative determination issued on February 11, 2003, was based on the finding that the workers did not produce a product under the meaning of section 222 of the Act. The denial notice was published in the Federal Register on March 26, 2003 (68 FR 14708).

To support the request for reconsideration, the company supplied additional information to supplement that which was gathered during the initial investigation. The company indicated that the plant workers were also engaged in value-added production that was necessary to complete the product (slippers).

An analysis of the functions supplied by the company on reconsideration show that the workers were engaged not only engaged in packaging and warehousing, but the actual finishing of the product (slippers).

An examination of information provided by the company during the initial investigation shows that the company shifted all plant production and related functions to Mexico during the relevant period.

Conclusion

After careful review of the additional facts obtained on reconsideration, I conclude that there were layoffs and a shift in production from the workers firm or subdivision to Mexico of articles like or directly competitive with those produced at Barry of Goldsboro, Goldsboro, North Carolina. In accordance with the provisions of the Act, I make the following certification:

All workers of Barry of Goldsboro, Goldsboro, North Carolina, who became totally or partially separated from employment on or after January 20, 2002 through two years from the date of this certification, are eligible to apply for adjustment assistance under section 223 of the Trade Act of 1974.

Signed in Washington, DC this 1st day of May 2003.
Elliott S. Kushner,
Certifying Officer, Division of Trade Adjustment Assistance.

[FR Doc. 03-12424 Filed 5-16-03; 8:45 am]

BILLING CODE 4510-30-P